DEPARTMENT OF ENERGY

Federal Energy Regulatory Commission

[Project No. 2513-066]

Green Mountain Power Corporation; Notice of Availability of Environment Assessment

June 15, 2006.

In accordance with the National Environmental Policy Act of 1969 and the Federal Energy Regulatory Commission's regulations, the Office of Energy Projects has reviewed the application by the licensee to install a fifth turbine in the project powerhouse, rated at 850 kW, with a maximum hydraulic capacity of 210 cfs. The project is located on the Winooski River in the townships of Essex Junction and Williston, Vermont. An environmental assessment (EA) has been prepared.

In the EA, the Commission's staff concludes that approval of the licensee's application would not produce any significant adverse environmental impacts, consequently the proposal would not constitute a major Federal action significantly affecting the quality of the human environment.

A copy of the EA is attached to a Commission order titled “Order Amending License and Revising Annual Charges,” issued June 15, 2006, and is available at the Commission's Public Reference Room. A copy of the EA may also be viewed on the Commission's Web site at http://www.ferc.gov using the “elibrary” link. Enter the docket numbers (P-2513) in the docket field to access the document. For assistance, call (202) 502-8222 or (202) 502-8659 (for TTY).

Magalie R. Salas,
Secretary.

[FR Doc. E6-9807 Filed 6-21-06; 8:45 am]

BILLING CODE 6717-01-P